DEPARTMENT OF AGRICULTURE

Food and Nutrition Service

Agency Information Collection Activities: Proposed Collection; Comment Request—Generic Clearance to Conduct Methodological Testing, Surveys, Focus Groups, and Related Tools To Improve the Management of Federal Nutrition Assistance Programs

AGENCY: Food and Nutrition Service (FNS), USDA.

ACTION: Notice.

SUMMARY: In accordance with the Paperwork Reduction Act of 1995, this notice invites the general public and other public agencies to comment on this proposed information collection. This information collection will conduct research by methodological testing, surveys, focus groups, and related tools to assess program performance, respond to the needs of policymakers, and develop innovative approaches that bear on the practical operations, management, and impact of Federal nutrition assistance programs.

DATES: Written comments must be received on or before October 17, 2011.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Kevin Kwon, Food and Nutrition Service, U.S. Department of Agriculture, 3101 Park Center Drive, Room 1020, Alexandria, VA 22302. Comments may also be submitted via fax to the attention of Kevin Kwon at 703-605-0800 or via e-mail to Kevin.Kwon@fns.usda.gov. Comments will also be accepted through the Federal eRulemaking Portal. Go to http://www.regulations.gov, and follow the online instructions for submitting comments electronically.

All written comments will be open for public inspection at the office of the Food and Nutrition Service during regular business hours (8:30 a.m. to 5 p.m. Monday through Friday) at 3101 Park Center Drive, Room 500, Alexandria, Virginia 22302.

All responses to this notice will be summarized and included in the request for Office of Management and Budget approval. All comments will be a matter of public record.

FOR FURTHER INFORMATION CONTACT: Requests for additional information or copies of this information collection should be directed to Kevin Kwon at 703-605-0800.

SUPPLEMENTARY INFORMATION:

Title: Generic Clearance to Conduct Methodological Testing, Surveys, Focus Groups, and Related Tools to Improve the Management of Federal Nutrition Assistance Programs.

OMB Number: 0584-New.

Expiration Date: Not Yet Determined.

Type of Request: New Collection.

Abstract: This generic clearance for information collection is necessary to obtain input from recipients and those persons eligible for FNS nutrition assistance programs, State and local staff administering FNS programs, FNS stakeholders and consumers, and other interested parties in order to assess program performance in the administration of FNS nutrition assistance programs, respond to the needs of policymakers making decisions on policy issues, and develop innovative approaches that bear on the practical operations, management, and impact of Federal nutrition assistance programs.

The methodological testing will include data collections for pretesting activities and methods (e.g., cognitive interviews, exploratory interviews, respondent debriefing, pilot surveys) to quickly test and implement new questions for research studies that often arise to address FNS policy issues or emerging programmatic needs. The generic clearance will also be used for collections for formative research for FNS programs using tools and methods such as: focus groups, interviews, surveys, and web-based collection tools.

Respondents: Recipients and those persons eligible for FNS nutrition assistance programs, State and local staff administering FNS programs, FNS stakeholders and consumers, and other interested parties.

Estimated Number of Respondents: 80,000.

Estimated Number of Responses per Respondent: One.

Estimated Total Annual Responses: 80,000.

Estimated Time per Response: 45 minutes (0.75 hours).

Estimated Total Annual Burden on Respondents: 60,000 hours.

Respondent | Estimated Number of respondents | Responses annually per respondent | Estimated total annual responses | Estimated avg. Number of hours per response | Estimated total hours
Total reporting burden | 80,000 | 1 | 80,000 | 0.75 | 60,000

Dated: July 29, 2011.
Audrey Rowe,
Administrator, Food and Nutrition Service.

[FR Doc. 2011-20945 Filed 8-16-11; 8:45 am]

BILLING CODE 3410-30-P